DEPARTMENT OF TRANSPORTATION

Federal Aviation Administration

Aviation Rulemaking Advisory Committee Meeting on Air Carrier and General Aviation Maintenance Issues

AGENCY: Federal Aviation Administration (FAA), DOT.

ACTION: Notice of public meeting.

SUMMARY: The Federal Aviation Administration (FAA) is issuing this notice to advise the public of a meeting of the FAA Aviation Rulemaking Advisory Committee to discuss Air Carrier and General Aviation Maintenance Issues.

DATES: The meeting will be held on June 21, 2001, from 9 a.m. to 12 p.m. Arrange for presentations by June 8, 2001.

ADDRESSES: The meeting will be held at the Federal Aviation Administration, 800 Independence Ave. SW., room 813, Washington, DC 20591.

FOR FURTHER INFORMATION CONTACT: Carolina E. Forrester, Federal Aviation Administration, Office of Rulemaking (ARM-206), 800 Independence Avenue, SW., Washington, DC 20591, telephone (202) 267-9690; fax (202) 267-5075.

SUPPLEMENTARY INFORMATION: Pursuant to § 10(a)(2) of the Federal Advisory Committee Act (Pub. L. 92-463; 5 U.S.C. App II), notice is hereby given of a meeting of the Aviation Rulemaking Advisory Committee to be held on June 21, 2001, from 9 a.m. to 12 p.m. at the Federal Aviation Administration, 800 Independence Ave. SW., room 813, Washington, DC 20591. The agenda will include:

1. Opening remarks;

2. Committee Administration;

3. General Aviation Maintenance Working Group presentation of working group's technical report and Advisory Circular;

4. Clarification of Major/Minor Repairs or Alterations Working Group presentation of working group's technical report and Advisory Circular;

5. Discussion of Working Groups continued activities; and

6. A discussion of future meeting dates, locations, activities, and plans.

Attendance is open to the interested public, but will be limited to the space available. The FAA will arrange teleconference capability for individuals wishing to participate by teleconference if we receive notification before June 8, 2001. Arrangements to participate by teleconference can be made by contacting the person listed in the FOR FURTHER INFORMATION CONTACT section. Callers outside the Washington metropolitan area will be responsible for paying long distance charges.

The public must make arrangements by May 25, 2001, to present oral statements at the meeting. The public may present written statements to the committee at any time by providing 25 copies to the Assistant Executive Director, or by bringing the copies to the meeting. In addition, sign and oral interpretation can be made available at the meeting, as well as an assistive listening device, if requested 10 calendar days before the meeting. Arrangements may be made by contacting the person listed under the heading FOR FURTHER INFORMATION CONTACT.

Issued in Washington, DC, on May 22, 2001.
Angela Elgee,
Assistant Executive Director, Aviation Rulemaking Advisory Committee.

[FR Doc. 01-13315 Filed 5-25-01; 8:45 am]

BILLING CODE 4910-13-M